NATIONAL ARCHIVES AND RECORDS ADMINISTRATION

36 CFR Part 1230

Micrographic Records Management

CFR Correction

In Title 36 of the Code of Federal Regulations, Part 300 to End, revised as of July 1, 2005, on page 889, § 1230.1 is corrected by removing the last sentence of the first paragraph, the following undesignated paragraph, and paragraphs (a), (b), and (c).

[FR Doc. C5-55514 Filed 10-7-05; 8:45 am]

BILLING CODE 1505-01-D